DEPARTMENT OF VETERANS AFFAIRS

Privacy Act of 1974; System of Records

AGENCY: Department of Veterans Affairs (VA).

ACTION: Notice of Amendment of Systems of Records Notice “Supervised Fiduciary/Beneficiary and General Investigative Records—VA” (37VA27).

SUMMARY: As required by the Privacy Act of 1974 (5 U.S.C. 552a(e)(4)), notice is hereby given that the Department of Veterans Affairs (VA) is updating system of records in its inventory entitled “Supervised Fiduciary/Beneficiary and General Investigative Records—VA” (37VA27). VA is amending the system of records by revising the Purpose(s), System Manager and address, and Routine Uses of Records Maintained in the System. VA is republishing the system notice in its entirety.

DATES: Comments on this amended system of records must be received no later than April 14, 2011. If no public comment is received during the period allowed for comment or unless otherwise published in the Federal Register by VA, the amended system will become effective April 14, 2011.

ADDRESSES: Written comments may be submitted through http://www.Regulations.gov; by mail or hand-delivery to the Director, Regulation Policy and Management (02REG), Department of Veterans Affairs, 810 Vermont Ave., NW., Room 1068, Washington, DC 20420; or by fax to 202-273-9026. (This is not a toll free number.) Copies of comments received will be available for public inspection in the Office of Regulation Policy and Management, Room 1063B, between the hours of 8 a.m. and 4:30 p.m. Monday through Friday (except holidays). Please call 202-461-4902 for an appointment. (This is not a toll free number.) In addition, during the comment period, comments may be viewed online through the Federal Docket Management System (FDMS) at https://www.Regulations.gov.

FOR FURTHER INFORMATION CONTACT: Thomas J. Murphy, Director, Compensation and Pension Service, Veterans Benefits Administration (VBA), Department of Veterans Affairs, 810 Vermont Avenue, NW., Washington, DC 20420, 202-461-9700.

SUPPLEMENTARY INFORMATION: This system of records contains guidelines for the administration of benefits in regards to beneficiaries who have been deemed incompetent by medical or legal authority. As required by law this system of records is updated to contain additional routine uses deemed necessary to administer benefits covered under title 38, United States Code, chapter 3, section (501)(a), (b), chapter 55.

The routine uses of records maintained in the system, including categories of users and the purposes of such uses, are being amended to protect the confidentiality and govern the release of VA records subject to 38 U.S.C. 5701, which permits disclosure in accordance with valid routine uses. Routine use numbers 15, 16, 17, 18, 19, 20, and 21 have been added in accordance with this authority.

Routine use number 1 has been revised to require that individuals covered by this system provide written requests for disclosures to be made to members of Congress or their staff. Routine use number 15 was added to allow for the disclosure of information to the National Archives and Records Administration (NARA) and the General Services Administration (GSA) in records management inspections conducted under authority of chapter 29 of title 44, United States Code. Routine use number 16 was added to allow for the disclosure of information to the Department of Justice (DoJ), either on VA's initiative or in response to DOJ's request for information, after either VA or DoJ determines that such information is relevant to DoJ's representation of the United States or any of its components in legal proceedings before a court or adjudicative body, provided that, in each case, the agency also determines prior to disclosure that release of the records to DoJ is a use of the information contained in the records that is compatible with the purpose for which VA collected the records. VA, on its own initiative, may disclose records in this system of records in legal proceedings before a court or administrative body after determining that the disclosure of records to the court or administrative body is a use of the information contained in the records that is compatible with the purpose for which VA collected the records. Routine use number 17 was added to allow for the disclosure of relevant information to individuals, organizations, public or private agencies, or other entities with whom VA has a contract or agreement or where there is a subcontract to perform such services as VA may deem practicable for the purposes of laws administered by VA, in order for the contractor or subcontractor to perform the services of the contract or agreement. Routine use number 18 was added to allow the disclosure of information by VA of any information in the system, except the names and mailing addresses of veterans and their dependents, that is relevant to a suspected violation or reasonably imminent violation of law, whether civil, criminal or regulatory in nature and whether arising by general or program statute or by regulation, rule or order issued pursuant thereto, to a Federal, State, local, Tribal, or foreign agency charged with the responsibility of investigating or prosecuting such violation, or charged with enforcing or implementing the statute, rule, regulation or order. Routine use number 19 was added to allow the disclosure of information to Federal agencies to assist such agencies in preventing and detecting possible fraud or abuse in operations and programs. Routine use number 20 was added to allow VA to disclose any information or records to appropriate agencies, entities, and persons when (1) VA suspects or has confirmed that the integrity or confidentiality of information in the system of records has been compromised; (2) VA has determined that as a result of the suspected or confirmed compromise, there is a risk of embarrassment or harm to the reputations of the record subjects, harm to economic or property interests, identity theft or fraud, or harm to the programs (whether maintained by VA or another agency or entity) that rely upon the potentially compromised information; and (3) the disclosure is made to such agencies, entities, or persons whom VA determines are reasonably necessary to assist or carry out VA's efforts to respond to the suspected or confirmed compromise and prevent, minimize, or remedy such harm. This routine use allows disclosures by VA to respond to a suspected or confirmed data breach, including the conduct of any risks analysis or provision of credit protection services as provided in 38 U.S.C. 5724, as the terms are defined in 38 U.S.C. 5727. Routine use number 21 was added to allow for the disclosure of the name and mailing address of a VA beneficiary, and other information as is reasonably necessary to identify such a beneficiary, who has been adjudicated as incompetent under 38 CFR 3.353 to the Attorney General of the United States or his/her designee, for use by the Department of Justice in the National Instant Criminal Background Check System (NICS) mandated by the Brady Handgun Violence Prevention Act, Public Law 103-159.

The proposed system reports, as required by 5 U.S.C. 552a (r) of the Privacy Act of 1974, as amended, were submitted to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (61 FR 6427, February 20, 1996).

The notice of amendment and an advance copy of the system notice have been sent to the appropriate Congressional committees and to the Director of Office of Management and Budget (OMB) as required by 5 U.S.C. 552a(r) (Privacy Act) and guidelines issued by OMB (65 FR 77677, December 12, 2000).

Approved: September 16, 2010.
John R. Gingrich,
Chief of Staff, Department of Veterans Affairs.

37VA27

SYSTEM NAME:

“VA Supervised Fiduciary/Beneficiary and General Investigative Records—VA”

SYSTEM LOCATION:

Records are maintained at the Department of Veterans Affairs (VA) regional offices, VA Medical Centers, the VA Records Management Center, St. Louis, Missouri, and the Data Processing Center at Hines, Illinois, and at the Corporate Franchise Data Center in Austin, Texas. The regional offices having jurisdiction over the domicile of the claimant generally maintain active records. Address locations are listed in the VA Appendix I. The automated individual employee productivity records are temporarily maintained at the VA data processing facility serving the office in which the employee is located. The paper record is maintained at the VA regional office having jurisdiction over the employee who processed the claim. Records provided to the Department of Housing and Urban Development (HUD) for inclusion on its Credit Alert Interactive Voice Response System (CAIVRS) are located at a data processing center under contract to HUD in Lanham, Maryland.

Categories of individuals covered by the system:

The following categories of individuals are covered by this system:

1. VA beneficiaries (i.e., a veteran or a non-veteran adult who receives VA monetary benefits, lacks the mental capacity to manage his or her own financial affairs regarding disbursement of funds without limitation, and is either rated incompetent by VA or adjudged to be under legal disability by a court of competent jurisdiction; or a child who has not reached majority under State law and receives VA monetary benefits);

2. VA supervised fiduciaries (i.e., VA Federal fiduciaries including legal custodians, spouse payees, superintendents of Indian reservations and custodians-in-fact appointed by VA to serve as payee of VA monetary benefits for an incompetent VA beneficiary; or a person or legal entity appointed by a State or foreign court to supervise the person and/or estate of a VA beneficiary adjudged to be under a legal disability. The statutory title of a court-appointed fiduciary may vary from State to State).

3. A chief officer of a hospital treatment, domiciliary, institutional or nursing home care facility wherein a veteran, rated incompetent by VA, is receiving care and who has contracted to use the veteran's VA funds in a specific manner.

4. Supervised Direct Payment (SDP) beneficiaries (i.e., incompetent adults who receive VA monetary benefits, or other individuals for whom an investigation of other than a fiduciary or guardianship matter is conducted for the purpose of developing evidence to enable a VA organizational element to make administrative decisions on benefits eligibility and other issues; or, to develop evidence for further investigations of potential criminal issues.

5. Physicians named in treatment records and financial managers or attorneys who help disperse funds. These individuals' names would be released during the disclosure of an incompetent individual's records.

CATEGORIES OF RECORDS IN THE SYSTEM:

The records in the Principal Guardianship Folder (PGF) are the primary records in this system. Social Security Administration (SSA) derived records, as needed, are also contained in this system. These records as well as secondary files called veterans files and correspondence files may contain the following types of information:

1. Field examination reports (i.e., VA Form 27-4716a or 27-3190, Field Examination Request and Report, which contains a VA beneficiary's name, mailing address, social security number, VA file number, an assessment of the VA beneficiary's ability to handle VA and non-VA funds, description of family relationships, economic and social adjustment data, information regarding activities, and name, mailing address, and assessment of the performance of a VA-supervised fiduciary);

2. Correspondence from and to a VA beneficiary, a VA-supervised fiduciary, and other interested third parties;

3. Medical records (i.e., medical and social work service reports generated in VA, State, local, and private medical treatment facilities and private physicians' offices indicating the medical history of the VA beneficiary including diagnosis, treatment and nature of physical or mental disability);

4. Financial records (e.g., accountings of a fiduciary's management of a VA beneficiary's income and estate, amount of monthly benefits received, amounts claimed for commissions by the VA-supervised fiduciary, certificates of balance on accounts from financial institutions, and withdrawal agreements between VA, financial institutions, and VA-supervised fiduciary);

5. Court documents (e.g., petitions, court orders, letters of fiduciaryship, inventories of assets, and depositions);

6. Contractual agreements to serve as a VA Federal Fiduciary;

7. Photographs of people (incompetent beneficiaries, fiduciaries, and other persons who are the subject of a VA investigation), places, and things;

8. Fingerprint records; and

9. Social Security Administration records containing information about the type and amount of SSA benefits paid to beneficiaries who are eligible to receive benefits under both VA and SSA eligibility criteria, records containing information developed by SSA about SSA beneficiaries who are in need of representative payees, accountings to SSA, and records containing information about SSA representative payees. Also contained in this system are copies of nonfiduciary program investigation records. These records are reports of field examinations or investigations performed at the request of any organizational element of VA about any subject under the jurisdiction of VA other than a fiduciary issue. In addition to copies of the reports, records may include copies of exhibits or attachments such as photographs of people, places, and things; sworn statements; legal documents involving loan guaranty transactions; bankruptcy; and debts owed to VA; accident reports; birth, death, and divorce records; certification of search for vital statistics documents; and beneficiary's financial statements and tax records; immigration information; and newspaper clippings.

AUTHORITY FOR MAINTENANCE OF THE SYSTEM:

Title 38, United States Code, Chapter 3, § 501(a), (b), Chapter 55.

PURPOSE:

This system will collect a limited amount of personally identifiable information in order to provide authorized individuals access to or interaction with the Department of Veterans Affairs. The information collected by the system will include: name, mailing address, social security number, medical record information, and financial information. The system enables VA to maintain lists of individuals who are considered incompetent for VA purposes for the purpose of providing a wide variety of Federal veteran's benefits administered by VA at VA facilities located throughout the nation. See the statutory provisions cited in “Authority for maintenance of the system.” VA gathers or creates these records in order to enable it to administer these statutory benefits programs.

ROUTINE USES OF RECORDS MAINTAINED IN THE SYSTEM, INCLUDING CATEGORIES OF USERS AND THE PURPOSES OF SUCH USES:

1. The record of an individual who is covered by this system may be disclosed to a member of Congress, or staff person acting for the member when the member or staff person requests the record on behalf of and at the written request of that individual.

2. The name and mailing address of a veteran, which is relevant to a suspected violation or reasonably imminent violation of law, whether civil, criminal or regulatory in nature and whether arising by general or program statute or by regulation, rule or order issued pursuant thereto, may be disclosed to a Federal agency charged with the responsibility of investigating or prosecuting such violation, or charged with enforcing or implementing the statute, regulation, rule or order issued pursuant thereto, in response to its official request, when that information is for law enforcement investigation purposes, and such request is in writing and otherwise complies with subsection (b)(7) of 5 U.S.C. 552a.

3. The name and mailing address of a veteran, which is relevant to a suspected violation or reasonably imminent violation of law concerning public health or safety, whether civil, criminal or regulatory in nature and whether arising by general or program statute or by regulation, rule or order issued pursuant thereto, may be disclosed to any foreign, State or local governmental agency or instrumentality charged under applicable law with the protection of the public health or safety, if a qualified representative of such organization, agency or instrumentality has made a written request that such name and mailing address be provided for a purpose authorized by law, and, if the information is sought for law enforcement investigation purposes, and the request otherwise complies with subsection (b)(7) of 5 U.S.C. 552a.

4. The name and mailing address of a veteran may be disclosed to any nonprofit organization if the release is directly connected with the conduct of programs and the utilization of benefits under title 38, United States Code (such disclosures include computerized lists of names and mailing addresses).

5. Any information in this system, including name, mailing address, social security number, VA file number, medical records, financial records and field examination reports of a VA beneficiary, and the name, mailing address and information regarding the activities of a VA-supervised fiduciary or beneficiary may be disclosed at the request of a VA beneficiary or fiduciary to a Federal, State, or local agency in order for VA to obtain information relevant to a VA decision concerning the payment and usage of funds payable by VA on behalf of a beneficiary, or to enable VA to assist a beneficiary or VA-supervised fiduciary in obtaining the maximum amount of benefits for a VA beneficiary from a Federal, State, or local agency.

6. Any information in this system, including name, mailing address, social security number, VA file number, medical records, financial records and field examination reports of a VA beneficiary who is in receipt of VA and SSA benefits concurrently, and the name, mailing address and information regarding the activities of a VA-supervised fiduciary may be disclosed to a representative of SSA to the extent necessary for the operation of a VA program, or to the extent needed as indicated by such representative.

7. The name and mailing address of a VA beneficiary, VA rating of incompetency, and the field examination report may be disclosed to a Federal agency, upon its official request, in order for that agency to make decisions on such matters as competency and dependency in connection with eligibility for that agency's benefits. This information may also be disclosed to a State or local agency, upon its official request in order for that agency to make decisions on such matters as competency and dependency in connection with eligibility for that agency's benefits, if the information pertains to a VA beneficiary who is not a veteran, or if the name and mailing address of the veteran is provided beforehand.

8. Any information in this system, including medical records, financial records, field examination reports, correspondence and court documents may be disclosed in the course of presenting evidence to a court, magistrate or administrative tribunal in matters of guardianship, inquests and commitments, and to probation and parole officers in connection with court required duties.

9. Only so much relevant information, including information in VA records obtained from SSA, and the name and mailing address of a VA beneficiary, fiduciary, or other person under investigation, as is necessary to obtain a coherent and informed response may be released to a third party who may have information bearing on an issue under VA investigation.

10. Any information in this system may be disclosed to a VA or court-appointed fiduciary in order for that fiduciary to perform his or her duties, provided this information will only be released when the disclosure is for the benefit of the beneficiary. Any information in this system may also be disclosed to a proposed fiduciary in order for the fiduciary to make an informed decision with regard to accepting fiduciary responsibility for a VA beneficiary.

11. Any information in this system, including medical records, correspondence records, financial records, field examination reports and court documents may be disclosed to an attorney employed by the beneficiary, or to a spouse, relative, next friend or to a guardian ad litem representing the interests of the beneficiary, provided the name and mailing address of the beneficiary is given beforehand and the disclosure is for the benefit of the beneficiary, and the release is authorized by 38 U.S.C. 7332, if applicable. Records subject to 38 U.S.C. 7332 contain information on medical treatment for drug abuse, alcoholism, sickle cell anemia, and HIV.

12. Any information in this system may be disclosed to the Department of Justice and to U.S. Attorneys in defense of prosecution of litigation involving the United States and to Federal agencies upon their official request in connection with review of administrative tort claims filed under the Federal Tort Claims Act, 28 U.S.C. 2672, as well as other claims.

13. Any information in this system including available identifying information regarding the debtor, such as the name of the debtor, last known address of the debtor, name of debtor's spouse, social security account number, VA insurance number, VA file number, place of birth and date of birth of debtor, name and mailing address of debtor's employer or firm and dates of employment, may be disclosed to other Federal agencies, State probate courts, State drivers license bureaus, State automobile title and license bureaus and the Government Accountability Office in order to obtain current mailing address, locator and credit report assistance in the collection of unpaid financial obligations owed the United States. The purpose is consistent with the Federal Claims Collection Act of 1966 and 38 U.S.C. 5701(b)(6).

14. Any information in this system relating to the adjudication of incompetency of a VA beneficiary either by the court of competent jurisdiction or by VA may be disclosed to a lender or prospective lender participating in the VA Loan Guaranty Program who is extending credit or proposing to extend credit on behalf of a veteran in order for VA to protect incompetent veterans from entering into unsound financial transactions which might deplete the resources of the veteran and to protect the interest of the Government giving credit assistance to a veteran.

15. Disclosure may be made to the National Archives and Records Administration (NARA) and the General Services Administration (GSA) in records management inspections conducted under authority of chapter 29 of title 44, United States Code.

16. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of records to the court or administrative body is a use of the information contained in the records that is compatible with the purpose for which VA collected the records.

17. Disclosure of relevant information may be made to individuals, organizations, public or private agencies, or other entities with whom VA has a contract or agreement or where there is a subcontract to perform such services as VA may deem practicable for the purposes of laws administered by VA, in order for the contractor or subcontractor to perform the services of the contract or agreement.

18. VA may disclose on its own initiative any information in this system, except the names and mailing addresses of veterans and their dependents, that is relevant to a suspected violation or reasonably imminent violation of law, whether civil, criminal or regulatory in nature and whether arising by general or program statute or by regulation, rule or order issued pursuant thereto, to a Federal, State, local, Tribal, or foreign agency charged with the responsibility of investigating or prosecuting such violation, or charged with enforcing or implementing the statute, rule, regulation or order.

19. Disclosure to other Federal agencies may be made to assist such agencies in preventing and detecting possible fraud or abuse by individuals in their operations and programs.

20. VA may on its own initiative, disclose any information or records to appropriate agencies, entities, and persons when (1) VA suspects or has confirmed that the integrity or confidentiality of information in the system of records has been compromised; (2) VA has determined that as a result of the suspected or confirmed compromise, there is a risk of embarrassment or harm to the reputations of the record subjects, harm to the economic or property interests, identity theft or fraud, or harm to the programs (whether maintained by VA or another agency or entity) that rely upon the potentially compromised information; and (3) the disclosure is to agencies, entities, or persons whom VA determines are reasonably necessary to assist or carry out VA's efforts to respond to the suspected or confirmed compromise and prevent, minimize, or remedy such harm. This routine use permits disclosures by VA to respond to a suspected or confirmed data breach, including the conduct of any risk analysis or provision of credit protection services as provided in 38 U.S.C. 5724, as the terms are defined in 38 U.S.C. 5727.

21. The name and mailing address of a VA beneficiary, and other information as is reasonably necessary to identify such a beneficiary, who has been adjudicated as incompetent under 38 CFR 3.353, may be provided to the Attorney General of the United States or his/her designee, for use by the Department of Justice in the National Instant Criminal Background Check System (NICS) mandated by the Brady Handgun Violence Prevention Act, Public Law 103-159.

POLICIES AND PRACTICES FOR STORING, RETRIEVING, ACCESSING, RETAINING, AND DISPOSING OF RECORDS IN THE SYSTEM:

STORAGE:

Fiduciary Program beneficiary and fiduciary information contained in the Principal Guardianship Folder (PGF), veterans' files, and correspondence files are maintained on paper documents in case folders and/or in the Fiduciary Beneficiary System and are stored at the regional offices (includes record information stored in the Fiduciary Beneficiary System), VA Central Office, and VA Corporate Franchise Data Center in Austin, Texas. Copies of nonfiduciary program investigations and related information contained in veteran's files and correspondence files are maintained on paper documents and are stored at the regional offices and at VA Central Office.

Records (or information contained in records) are also maintained in electronic file folders (e.g., Virtual VA), and on automated storage media (e.g., microfilm, microfiche, magnetic tape and disks). Such information may be accessed through data telecommunication terminal systems designated the Benefits Delivery Network (BDN), Virtual VA and Veterans Service Network (VETSNET). BDN, Virtual VA and VETSNET terminal locations include VA Central Office, regional offices, VA health care facilities, Veterans Integrated Service Network (VISN) offices, Department of Defense Finance and Accounting Service Centers and the U.S. Coast Guard Pay and Personnel Center. Remote on-line access is also made available to authorized remote sites, representatives of claimants and to attorneys of record for claimants. A VA claimant must execute a prior written consent or a power of attorney authorizing access to his or her claims records before VA will allow the representative or attorney to have access to the claimant's automated claims records. Access by representatives and attorneys of record is to be used solely for the purpose of assisting an individual claimant whose records are accessed in a claim for benefits administered by VA. Information relating to receivable accounts owed to VA, designated the Centralized Accounts Receivable System (CARS), is maintained on magnetic tape, microfiche and microfilm. CARS is accessed through a data telecommunications terminal system at St. Paul, Minnesota.

RETRIEVABILITY:

Paper documents and automated storage media are indexed and retrievable by name and file number of VA beneficiary or other individual.

SAFEGUARDS:

1. The individual case folder and computer lists are generally kept in secured steel cabinets when not in use. The cabinets are located in areas, which are locked after work hours. Access to these records is restricted to authorized VA personnel on a “need to know” basis. Magnetic tapes and disks, when not in use, are maintained under lock and key in areas accessed by authorized VA personnel on a “need to know” basis.

2. Access to the computer rooms within the regional office is generally limited by appropriate locking devices and restricted to authorized VA employees and vendor personnel. Automated Data Processing (ADP) peripheral devices are generally placed in secure areas (areas that are locked or have limited access) or are otherwise protected. Information in the Fiduciary Beneficiary System may be accessed by authorized VA employees. Access to file information is controlled at two levels; the system recognizes authorized employees by a series of individually unique passwords/codes and the employees are limited to only the information in the file, which is needed in the performance of their official duties.

3. Access to the VA data processing center is generally restricted to center employees, custodial personnel, Federal Protective Service, and other security personnel. Access to the computer rooms is restricted to authorized operational personnel through electronic locking devices. All other persons gaining access to the computer rooms are escorted.

4. Access to records in VA Central Office is only authorized to VA personnel on a “need to know” basis. Records are maintained in manned rooms during working hours. During non-working hours, there is limited access to the building with visitor control by security personnel.

RETENTION AND DISPOSAL:

Paper documents and computer lists are destroyed between 60 days after receipt to 2 years after VA supervision has ceased, depending on the type of record or document. Correspondence files are destroyed after 1 year, veteran files after 2 years, PGFs 2 years after the case becomes inactive. Investigations data and information obtained from SSA is destroyed according to the time standards established in the two preceding sentences. Information contained in the Fiduciary Beneficiary System is automatically purged two years after the case becomes inactive. A record is determined inactive when it comes under the provision of M21-1MR, Part XI, Chapter 4, Section A.2.f.

SYSTEM MANAGER(S) AND ADDRESS:

Director, Compensation and Pension Service (21), VA Central Office, Washington, DC 20420.

NOTIFICATION PROCEDURE:

Any individual who wishes to determine whether a record is being maintained in this system under his or her name or other personal identifier, or wants to determine the content of such records should submit a written request or apply in person to the nearest VA regional office or center. Addresses for VA regional offices and centers may be found in VA Appendix 1. All inquiries must reasonably identify the type of records involved, e.g., guardianship file. Inquiries should include the individual's full name, VA file number and return address. If a VA file number is not available, then as much of the following information as possible should be forwarded: Full name, branch of service, dates of service, service numbers, Social Security Number, and date of birth.

RECORD ACCESS PROCEDURES:

Individuals seeking information regarding access to or contesting VA records in this system may write, call or visit the nearest VA regional office or center.

CONTESTING RECORD PROCEDURES:

See records access procedures above.

RECORD SOURCE CATEGORIES:

VA beneficiary, VA beneficiary's dependents, VA-supervised fiduciaries, field examiners, estate analysts, third parties, other Federal, State, and local agencies, and VA records.

[FR Doc. 2011-6024 Filed 3-14-11; 8:45 am]

BILLING CODE P